DEPARTMENT OF ENERGY

Federal Energy Regulatory Commission

[Docket No. ER00-3766-002]

Canal Electric Company; Notice of Filing

February 15, 2001.

Take notice that on January 22, 2001, Canal Electric Company (Canal) tendered for filing with the Federal Energy Regulatory Commission (Commission), a corrected copy of the second restated sixth amendment to the Power Contract between Canal and its retail affiliates Cambridge Electric Light Company and Commonwealth Electric Company (Canal Rate Schedule FERC No. 33, the Seabrook Power Contract). This filing corrects Canal's filing made with the Commission on December 18, 2000 in the above-referenced proceeding, whereby it submitted the Restated Sixth Amendment. This corrected filing re-designates the Seabrook Power Contract in accordance with the requirements of the Commission's Order 614.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before March 1, 2001. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-222 for assistance). Comments and protests may be filed electronically via the internet in lieu of paper. See, 18 CFR 385.2001(a)(1)(iii) and the instructions on the Commission's web site at http://www.ferc.fed.us/efi/doorbell.htm.

David P. Boergers,
Secretary.

[FR Doc. 01-4351 Filed 2-21-01; 8:45 am]

BILLING CODE 6717-01-M